DEPARTMENT OF COMMERCE

Submission for OMB Review; Comment Request

DOC will submit to the Office of Management and Budget (OMB) for clearance the following proposal for collection of information under the provisions of the Paperwork Reduction Act (44 U.S.C. chapter 35).

Agency: U.S. Census Bureau.

Title: Annual Social and Economic Supplement to the Current Population Survey.

Form Number(s): CPS-580 (ASEC), CPS-580 (ASEC)SP, CPS-676, CPS-676(SP).

Agency Approval Number: 0607-0354.

Type of Request: Revision of a currently approved collection.

Burden: 32,500 hours.

Number of Respondents: 78,000.

Avg Hours per Response: 25 minutes.

Needs and Uses: The purpose of this request for review is to obtain clearance for the Annual Social and Economic Supplement (ASEC), which we will conduct in conjunction with the February, March, and April Current Population Survey (CPS). Congressional passage of the State Children's Health Insurance Program, or Title XXI, led to a mandate from Congress, in 1999, that the sample size for the CPS, and specifically the Annual Social and Economic Supplement (ASEC), be increased to a level whereby more reliable estimates can be derived for the number of individuals participating in this program at the state level. By administering the ASEC in February, March, and April, we have been able to achieve this goal. The U.S. Census Bureau has conducted this supplement annually for over 50 years. The Census Bureau, the Bureau of Labor Statistics (BLS), and the Department of Health and Human Services (HHS) sponsor this supplement.

The instrument questionnaire contains the same items that were in the 2006 ASEC instrument, with the inclusion of additional questions that collect information on payments from pensions and retirement plans.

The ASEC can be divided into five logical series of questions as follows: Work Experience; Personal Income and Noncash Benefits; Household Noncash Benefits; Welfare Reform Items; and Migration.

ASEC data are used by social planners, economists, Government officials, and market researchers to gauge the social and economic well-being of the Nation as a whole, and selected population groups of interest.

Affected Public: Individuals or households.

Frequency: Annually.

Respondent's Obligation: Voluntary.

Legal Authority: Title 13, U.S.C., Section 182; Title 29, U.S.C., Sections 1-9.

OMB Desk Officer: Brian Harris-Kojetin, (202) 395-7314.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Brian Harris-Kojetin, OMB Desk Officer either by fax (202) 395-7245 or e-mail (bharrisk@omb.eop.gov).

Dated: October 24, 2006.
Madeleine Clayton,
Management Analyst, Office of the Chief Information Officer.

[FR Doc. E6-18003 Filed 10-26-06; 8:45 am]

BILLING CODE 3510-07-P